DEPARTMENT OF COMMERCE

Patent and Trademark Office

Agency Information Collection Activities; Submission to the Office of Management and Budget (OMB) for Review and Approval; Comment Request; Public Search Facility User ID and Badging

AGENCY: United States Patent and Trademark Office, Department of Commerce.

ACTION: Notice of information collection; request for comment.

SUMMARY: The United States Patent and Trademark Office (USPTO), as required by the Paperwork Reduction Act of 1995, invites comments on the extension and revision of an existing information collection: 0651-0041 (Public Search Facility User ID and Badging). The purpose of this notice is to allow 60 days for public comment preceding submission of the information collection to OMB.

DATES: To ensure consideration, comments regarding this information collection must be received on or before June 15, 2021.

ADDRESSES: Interested persons are invited to submit written comments by any of the following methods. Do not submit Confidential Business Information or otherwise sensitive or protected information:

• Email: InformationCollection@uspto.gov. Include “0651-0041 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Terry Howard, Manager, Public Search Facility, United States Patent and Trademark Office, P.O. Box 1450, Alexandria, VA 22313-1450; by telephone at 571-272-3258; or by email to Terry.Howard@uspto.gov. Additional information about this information collection is also available at http://www.reginfo.gov under “Information Collection Review.”

SUPPLEMENTARY INFORMATION:

I. Abstract

The United States Patent and Trademark Office (USPTO) is required by 35 U.S.C. 41(i)(1) to maintain a Public Search Facility to make publically accessible USPTO patent and trademark collections for search and retrieval. The Public Search Facility is located in a publicly accessible portion of USPTO headquarters in Alexandria, Virginia, and offers the public access to the collection's paper, microfilm, and electronic files and trained staff to assist users with searches. The USPTO also offers training courses to assist users with the advanced electronic search systems available at the facility.

This information collection covers information collected in applications required for those members of the public who wish to use the electronic search systems at the Public Search Facility to establish a USPTO online access account, and to obtain, renew, or replace online access accounts. The public may apply for an online access account at the Public Search Facility reference desk by providing the necessary information and proper identification. The access account includes a bar-coded user number and an expiration date. Users may renew their account by validating and updating the required information and may obtain a replacement for a lost account information by providing proper identification. Users who wish to register for the voluntary training courses may do so by completing the appropriate form.

This information collection also covers information in applications to establish, renew, or replace security identification badges issued, under the authority provided in 41 CFR part 102-81, to members of the public who wish to access the Public Search Facility. Users may apply for a security badge in-person at the USPTO Security Office by providing the necessary information and presenting a valid form of identification with photograph. The security badges include a color photograph of the user and must be worn at all times while at the USPTO facilities.

II. Methods of Collection

Items in this information collection must be submitted in-person; including the security badges and account requests. Requests for training may be submitted in-person, online, or through the mail.

III. Data

OMB Number: 0651-0041.

Form Number(s):

• PTO-2030 (Application for Public User ID)

• PTO-2224 (Security Identification Badges for Public Users)

Type of Review: Extension and revision of a currently approved information collection.

Affected Public: Individuals or households.

Estimated Number of Respondents: 5,525 respondents per year.

Estimated Number of Responses: 5,925 responses per year.

Estimated Time per Response: The USPTO estimates that it will take the public approximately 5 minutes (0.08 hours) to complete the information in this information collection, depending on the form. This includes the time to gather the necessary information, prepare the appropriate form, and submit the completed item to the USPTO.

Estimated Total Annual Respondent Burden Hours: 474 hours.

Estimated Total Annual Respondent Cost Burden: $145,912.

Table 1—Total Hourly Burden for Individuals and Households Respondents
Item No. | Item | Estimated annual respondents | Estimated annual responses (year) | Estimated time for response (hour) | Estimated annual burden (hour/year) | Rate 1 ($/hour) | Estimated annual burden
|  |  | (a) | (b) | (a) x (b) = (c) | (d) | (c) x (d) = (e)
1 | Application for Public User ID (Access Account) | 1,050 | 1,050 | 0.08 (5 minutes) | 84 | $400 | $33,600
2 | Renew Online Access Replace | Same as 6 | 400 | 0.08 (5 minutes) | 32 | 400 | 12,800
3 | Replace Online Access Replace | 75 | 75 | 0.08 (5 minutes) | 6 | 400 | 2,400
4 | User Training Registration | 100 | 100 | 0.08 (5 minutes) | 8 | 400 | 3,200
5 | Security Identification Badges for Public Users | 1,000 | 1,000 | 0.08 (5 minutes) | 80 | 273 | 21,840
6 | Renew Security Identification Badges for Public Users | 3,200 | 3,200 | 0.08 (5 minutes) | 256 | 273 | 69,888
7 | Replace Security Identification Badges | 100 | 100 | 0.08 (5 minutes) | 8 | 273 | 2,184
| Totals | 5,525 | 5,925 |  | 474 |  | 145,912
¹ 2019 Report of the Economic Survey, published by the Committee on Economics of Legal Practice of the American Intellectual Property Law Association (AIPLA); https://www.aipla.org/detail/journal-issue/2019-report-of-the-economic-survey. The USPTO uses the mean rate for attorneys in private firms which is $400 per hour. The hourly rate for paraprofessional/paralegals is estimated at $145 from data published in the 2018 Utilization and Compensation Survey by the National Association of Legal Assistants (NALA). A combined rate is used for the security badges items.

Estimated Total Annual Non-hour Respondent Cost Burden: $1,503. The total annual (non-hour) respondent cost burden for this information collection in the forms of fees and postage costs is estimated to be $1,503 per year.

There are no application or renewal fees for online access accounts or security identification badges. However, there is a $15 fee for issuing a replacement security identification badge. The USPTO estimates that it will reissue approximately 100 security badges annually that have been lost, stolen, or need to be replaced, for a total of $1,500 per year in replacement fees.

Users may incur postage costs when submitting a user training registration form to the USPTO by mail; approximately 5 per year. The USPTO estimates that the average first-class postage cost for a mailed training form will be $0.55 per year for this information collection resulting to total postage costs of $3.

Respondent's Obligation: Required to obtain or retain benefits.

IV. Request for Comments

The USPTO is soliciting public comments to:

(a) Evaluate whether the proposed collection of information is necessary for the proper performance of the functions of the Agency, including whether the information will have practical utility;

(b) Evaluate the accuracy of the Agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information in a comment, be aware that the entire comment— including personal identifying information—may be made publicly available at any time. While you may ask in your comment to withhold personal identifying information from public view, USPTO cannot guarantee that it will be able to do so.

Kimberly Hardy,
Information Collections Officer, Office of the Chief Administrative Officer, United States Patent and Trademark Office.

[FR Doc. 2021-07851 Filed 4-15-21; 8:45 am]

BILLING CODE 3510-16-P